DEPARTMENT OF JUSTICE

Antitrust Division

Notice Pursuant to the National Cooperative Research and Production Act of 1993—The Open Group, L.L.C.

Notice is hereby given that, on December 10, 2018, pursuant to Section 6(a) of the National Cooperative Research and Production Act of 1993, 15 U.S.C. 4301 et seq. (“the Act”), The Open Group, L.L.C. (“TOG”) has filed written notifications simultaneously with the Attorney General and the Federal Trade Commission disclosing changes in its membership. The notifications were filed for the purpose of extending the Act's provisions limiting the recovery of antitrust plaintiffs to actual damages under specified circumstances. Specifically, 4IT GROUP, Wrocław, POLAND; Amphenol SV Microwave, West Palm Beach, FL; Autopro Automation Consultants Ltd., Grande Prairie, CANADA; Bell Helicopter Textron, Inc., Fort Worth, TX; CGI Group, Inc., Montreal, CANADA; Coala Ltd., Helsinki, FINLAND; Citalid Cybersécurité, Versailles, FRANCE; Conf. Inter Das Coop Ligadas ao SICREDI, Port Alegre, BRAZIL; CXO Dynamix Business Solutions (PTY) Ltd, Pretoria, SOUTH AFRICA; Devon Energy Corporation, Oklahoma City, OK; Foresight Resilience Strategies, LLC, Bethesda, MD; FSOPN Science and Technology, Co., Ltd., Beijing, PEOPLE'S REPUBLIC OF CHINA; Goodea Consulting s.r.o., Prague, CZECH REPUBLIC; Helium Consulting, Pune, INDIA; Grupo Magnus SAS, Bogata, COLUMBIA; Jovian Software Consulting LLC, Ada, MI; Momentum Management Consulting, Camp Hill, PA; Mundo Cognito Ltd., Penn, UNITED KINGDOM; Nova SMAR S/A, Sertãozinho, BRAZIL; Pentek, Inc., Upper Saddle River, NJ; Projexion SARL, Villeneuve d'Ascq, FRANCE; Samtec, Inc., New Albany, IN; Shell Global Solutions Int. b.v., Rijswijk, THE NETHERLANDS; SR Technologies, Inc., Davie, FL; TE Connectivity Corporation, Middletown, PA; and University of Southern California U.S.C. Energy Institute, Los Angeles, CA, have been added as parties to this venture.

Also, Cobham Aerospace Communications, Prescott, AZ; EDF Group, Paris, FRANCE; Enea Software & Services, Inc., Phoenix, AZ; Management Edge Limited, Abuja, NIGERIA; Manipal Global Education Services Private Limited, Bengaluru, INDIA; MooD International Software, York, UNITED KINGDOM; Munich Re, Munich, GERMANY; Pan Asia Training PTE Ltd, Singapore, SINGAPORE; SIGMAXYZ, Inc., Tokyo, JAPAN; Smart 360 BIZ, Cambridge, MA; Steria Limited, Hemel Hempstead, UNITED KINGDOM; The Tingle Tree Group, Bentleigh, AUSTRALIA; Thomas Production Company L.L.C., Potomac Falls, VA; Unique Factors Corporation, Rockland, CANADA; and Waterfall Security Solutions LTD, Rosh Ha'ayin, ISRAEL, have withdrawn as parties to this venture.

In addition, CTPartners has changed its name to Asseco Data Systems, Warszawa, POLAND; and IAB bvba to Envizion cvba, Mechelen, BELGIUM.

No other changes have been made in either the membership or planned activity of the group research project. Membership in this group research project remains open, and TOG intends to file additional written notifications disclosing all changes in membership.

On April 21, 1997, TOG filed its original notification pursuant to Section 6(a) of the Act. The Department of Justice published a notice in the Federal Register pursuant to Section 6(b) of the Act on June 13, 1997 (62 FR 32371).

The last notification was filed with the Department on August 31, 2018. A notice was published in the Federal Register pursuant to Section 6(b) of the Act on September 17, 2018 (83 FR 46971).

Suzanne Morris,
Chief, Premerger and Division Statistics Unit, Antitrust Division.

[FR Doc. 2018-27460 Filed 12-18-18; 8:45 am]

BILLING CODE 4410-11-P